NUCLEAR REGULATORY COMMISSION

[Docket No. 50-271; NRC-2015-0157]

Entergy Nuclear Operations, Inc.; Vermont Yankee Nuclear Power Station; Correction

AGENCY: Nuclear Regulatory Commission.

ACTION: Final environmental assessment and finding of no significant impact; correction.

SUMMARY: The U.S. Nuclear Regulatory Commission (NRC) is correcting a notice that was published in the Federal Register (FR) on December 26, 2017, regarding issuance of a final environmental assessment (EA) and finding of no significant impact (FONSI). The EA and FONSI address the issuance of two exemptions that allow Entergy Nuclear Operations, Inc. to use funds from the Vermont Yankee decommissioning trust fund for irradiated fuel management activities. This action is necessary to delete erroneous text in the response to petitioner's comment 1.a. and provide clarification.

DATES: The correction is effective January 24, 2018.

ADDRESSES: Please refer to Docket ID NRC-2015-0157 when contacting the NRC about the availability of information regarding this document. You may obtain publicly-available information related to this document using any of the following methods:

• Federal Rulemaking website: Go to http://www.regulations.gov and search for Docket ID NRC-2015-0157. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Jack Parrott, Office of Nuclear Material Safety and Safeguards, U.S. Nuclear Regulatory Commission, Washington, DC 20555-0001; telephone: 301-415-6634, email: Jack.Parrott@nrc.gov.

SUPPLEMENTARY INFORMATION: In the FR on December 26, 2017, in FR Doc. 2017-27682, on page 61042, in the NRC response to Petitioners comment 1.a., the entire response is corrected to read as follows: “The NRC disagrees with this comment. The NRC is aware of the possible sale of VY to NorthStar, and that the sale may result in changes to the plan, schedule, and cost estimate for decommissioning. The sale transaction is still pending regulatory review and approval by both the Vermont Public Service Board and the NRC. Pursuant to 10 CFR 50.80, the VY license may not be transferred, either voluntarily or involuntarily, directly or indirectly, through transfer of control of the license to any person, unless the NRC gives its consent in writing. In light of the pendency of the license transfer request, it would be inappropriate for the agency to prejudge the outcome of this review. However, pursuant to 10 CFR 51.22(c)(21), the agency has determined that, as a generic matter, there are no significant environmental impacts associated with the transfer of the license. While the petitioners have challenged the applicability of the categorical exclusion in these circumstances, the agency believes that, for purposes of this EA, it is appropriate to rely on the existing analysis and to leave future arguments concerning its applicability to the ongoing adjudicatory process. Furthermore, pursuant to 10 CFR 50.33(k), the license transfer request is required to state information in the form of a report indicating how reasonable assurance will be provided that funds will be available to decommission the facility.”

Dated at Rockville, Maryland, this 19th day of January.
For the Nuclear Regulatory Commission.
John R. Tappert,
Director, Division of Decommissioning, Uranium Recovery, and Waste Programs, Office of Nuclear Material Safety and Safeguards.

[FR Doc. 2018-01241 Filed 1-23-18; 8:45 am]

BILLING CODE 7590-01-P